DEPARTMENT OF HEALTH AND HUMAN SERVICES

Centers for Disease Control and Prevention

Board of Scientific Counselors, National Center for Health Statistics (BSC, NCHS); Correction

Notice is hereby given of a change in the meeting of the Board of Scientific Counselors, National Center for Health Statistics (BSC, NCHS); December 4, 2018, 11:00 a.m.-5:30 p.m., EDT, and December 5, 2018, 8:30 a.m.-1:00 p.m., EDT which was published in the Federal Register on November 16, 2017 Volume 82, Number 220, pages 53500-53501.

The date should read as follows: December 4, 2018 10:00 a.m.-5:00 p.m. EST.

The MATTERS TO BE CONSIDERED should read as follows: The meeting agenda includes welcome remarks by NCHS leadership; an update on the National Health Interview Statistics Redesign Bridge Sample; an update on the Utilization of Electronic Health Records (EHR) Data in NCHS Data Systems update on National Study of Long-Term Care Providers; an update from the Patient-Centered Outcomes Research Trust Fund Drug Workgroup; an update on Indicator Selection for Healthy People 2030; and an update on Evaluation of Birth Outcomes Associated with Drug Use.

FOR FURTHER INFORMATION CONTACT: Sayeedha Uddin, M.D., M.P.H., Executive Secretary, NCHS/CDC, Board of Scientific Counselors, 3311 Toledo Road, Room 2627, Hyattsville, Maryland 20782, telephone (301) 458-4303, email isx9@cdc.gov.

The Chief Operating Officer, Centers for Disease Control and Prevention, has been delegated the authority to sign Federal Register notices pertaining to announcements of meetings and other committee management activities, for both the Centers for Disease Control and Prevention and the Agency for Toxic Substances and Disease Registry.

Sherri Berger
Chief Operating Officer, Centers for Disease Control and Prevention.

[FR Doc. 2018-27718 Filed 12-20-18; 8:45 am]

BILLING CODE 4163-18-P